DEPARTMENT OF AGRICULTURE

Office of the Secretary

Determination of Total Amounts and Quota Period for Tariff-Rate Quotas for Raw Cane Sugar and Certain Imported Sugars, Syrups, and Molasses

AGENCY: Office of the Secretary, USDA.

ACTION: Notice.

SUMMARY: This notice establishes the aggregate quantity of 1,362,000 metric tons, raw value, of raw cane sugar that may be entered under subheading 1701.11.10 of the Harmonized Tariff Schedule of the United States (HTS) during fiscal year (FY) 2000, with 227,000 metric tons held in reserve for possible allocation. This notice also establishes the aggregate quantity of 60,000 metric tons (raw value basis) for certain sugars, syrups, and molasses that may be entered under subheading 1701.12.10, 1701.91.10, 1701.99.10, 1702.90.10, and 2106.90.44 of the HTS during FY 2000.

EFFECTIVE DATE: November 8, 2000.

ADDRESSES: Inquiries may be mailed or delivered to the Important Policy and Programs Division Director, Foreign Agriculture Service, AgStop 1021, South Building, U.S. Department of Agriculture, Washington, D.C. 20250-1021 or e-mail at williamsdj@fas.usda.gov.

FOR FURTHER INFORMATION CONTACT: David Williams (Team Leader, Import Policy and Programs Division), 202-720-2916.

SUPPLEMENTARY INFORMATION: Paragraph (a)(i) of additional U.S. note 5 to chapter 17 of the HTS provides in pertinent part as follows:

The aggregate quantity of raw cane sugar entered, or withdrawn from warehouse for consumption, under subheading 1701.11.10, during any fiscal year, shall not exceed in the aggregate an amount (expressed in terms of raw value), not less than 1,117,195 metric tons, as shall be established by the Secretary of Agriculture (hereinafter referred to as “the Secretary”), and the aggregate quantity of sugars, syrups, and molasses entered, or withdrawn from warehouse for consumption, under subheadings 1701.12.10, 1701.91.10, 1701.99.10, 1702.90.10 and 2106.90.44, during any fiscal year, shall not exceed in the aggregate an amount (expressed in terms of raw value), not less than 22,000 metric tons, as shall be established by the Secretary. With either the aggregate quantity for raw cane sugar or the aggregate quantity for sugars, syrups, and molasses other than raw sugar, the Secretary may reserve a quota quantity for the importation of specialty sugars as defined by the United States Trade Representative.

These provisions of paragraph (a)(i) of additional U.S. note 5 to chapter 17 of the HTS authorize the Secretary of Agriculture to establish the total amounts (expressed in terms of raw value) for imports of raw cane sugar and certain other sugars, syrups, and molasses that may be entered under the subheadings of the HTS subject to the lower tier of duties of the tariff-rate quotas (TRQs) for entry during the fiscal year beginning October 1. Allocations of the quota amounts among supplying countries and areas will be made by the United States Trade Representative.

Notice

I hereby give notice, in accordance with paragraph (a) of additional U.S. note 5 to chapter 17 of the HTS, that an aggregate quantity of up to 1,362,000 metric tons, raw value, or raw cane sugar described in subheading 1701.11.10 of the HTS may be entered or withdrawn from warehouse for consumption during the period from October 1, 1999, through September 30, 2000. Of this quantity, 1,135,000 metric tons is immediately available, to be allocated by the United States Trade Representative, and the remaining 227,000 metric tons will be held in reserve for possible allocation if warranted by market conditions.

I will issue Certificates of Quota Eligibility (CQEs) to allow the Philippines, Brazil, and the Dominican Republic to ship up to 25 percent of their respective initial country allocations at the low-tier tariff during each quarter of FY 2000. Australia, Guatemala, Argentina, and Peru will be allowed to ship up to 50 percent of their respective initial country allocations in the first six months of FY 2000. Unentered allocations, during any quarter or six month period, may be entered in any subsequent period. For all other countries, CQEs corresponding to their respective country allocations may be entered at the low-tier tariff at any time during the fiscal year. If additional country allocations result from the reserved TRQ quantity, they may be entered subsequent to their announcement by the United States Trade Representative.

I have further determined, in accordance with paragraph (a) of additional U.S. note 5 to chapter 17 of the HTS, that an aggregate quantity of up to 60,000 metric tons, raw value, of certain sugars, syrups, and molasses described in subheadings 1701.12.10, 1701.91.10, 1701.99.10, 1702.90.10, and 2106.90.44 or the HTS may be entered or withdrawn from warehouse for consumption during the period from October 1, 1999 through September 30, 2000. I have further determined that out of this quantity of 60,000 metric tons, the quantity of 14,656 metric tons, raw value, is reserved for the importation of specialty sugars. These TRQ amounts may be allocated among supplying countries and areas by the United States Trade Representative.

Mexico's access to the U.S. market under the North American Free Trade Agreement (NAFTA) is established at 25,000 metric tons raw value. That access is for either raw or refined sugar, but total access under the refined sugar allocation and the raw-sugar allocation is not to exceed 25,000 metric tons. Mexico's access for either a raw or refined sugar is established pursuant to Annex 703.2 of the NAFTA.

Signed at Washington, D.C. on October 30, 2000.
Dan Glickman,
Secretary of Agriculture.

[FR Doc. 00-28661 Filed 11-7-00; 8:45 am]

BILLING CODE 3410-10-M